DEPARTMENT OF STATE

[Public Notice 8545]

Imposition of Additional Sanctions on Syria Under the Chemical and Biological Weapons Control and Warfare Elimination Act of 1991

AGENCY: Bureau of International Security and Nonproliferation, Department of State.

ACTION: Notice.

SUMMARY: On August 2, 2013, a determination was made that the Government of Syria used chemical weapons in violation of international law or lethal chemical weapons against its own nationals. Notice of this determination was published on September 10, 2013, in the Federal Register, under Public Notice 8460. That determination resulted in sanctions against the Government of Syria. Section 307(b) of the Chemical and Biological Weapons Control and Warfare Elimination Act of 1991, 22 U.S.C. 5604(a) and 5605(a), requires a decision within three months of the August 2, 2013 determination regarding the imposition of additional sanctions. The United States Government decided on November 1, 2013, to impose such additional sanctions on the Government of Syria. In addition, the United States Government determined that it is essential to the national security interests of the United States to partially waive the application of these additional sanctions with respect to activities in furtherance of United States policies regarding the Syrian conflict.

The following is notice of the additional sanctions to be imposed pursuant to Section 307(b)(2) of the Act (22 U.S.C. 5605(b)), subject to the waiver described above.

DATES: Effective Date: Upon publication in the Federal Register.

FOR FURTHER INFORMATION CONTACT: Pamela K. Durham, Office of Missile, Biological, and Chemical Nonproliferation, Bureau of International Security and Nonproliferation, Department of State, Telephone (202) 647-4930.

SUPPLEMENTARY INFORMATION: Pursuant to Section 307(b) of the Chemical and Biological Weapons Control and Warfare Elimination Act of 1991, as amended (22 U.S.C. 5604(a) and 5605(a)), on November 1, 2013, the Under Secretary of State for Arms Control and International Security, Rose Gottemoeller, decided to impose additional sanctions on the Government of Syria. As a result, the following additional sanctions are hereby imposed, subject to partial waivers as noted below:

1. Bank Loans—The United States Government shall prohibit any United States bank from making any loan or providing any credit to the Government of Syria, except for loans or credits for the purpose of purchasing food or other agricultural commodities or products.

2. Further Export Restrictions—The authorities of section 6 of the Export Administration Act of 1979 shall be used to prohibit exports to Syria of all other goods and technology (excluding food and other agricultural commodities and products).

3. Presidential Action Regarding Aviation—The Executive Branch is authorized to notify the Government of Syria of its intention to suspend the authority of foreign air carriers owned or controlled by Syria to engage in foreign air transportation to or from the United States.

The application of these additional sanctions is partially waived with respect to activities in furtherance of United States policies regarding the Syrian conflict. Determinations as to whether activities are in furtherance of U.S. policies regarding the Syrian conflict will be made on a case-by-case basis with the involvement of the Department of State, using existing interagency procedures to the maximum extent possible. These measures shall be implemented by the responsible departments and agencies of the United States Government and will remain in place for at least one year or until further notice.

Dated: December 4, 2013.
Vann H. Van Diepen,
Acting Assistant Secretary of State for International Security and Nonproliferation.

[FR Doc. 2013-29441 Filed 12-9-13; 8:45 am]

BILLING CODE 4710-02-P